DEPARTMENT OF TRANSPORTATION

Federal Aviation Administration

Notice of Opportunity for Public Comment on Surplus Property Release at Lewistown Municipal Airport, in Lewistown, MT

AGENCY: Federal Aviation Administration (FAA), DOT.

ACTION: Request for public comments.

SUMMARY: Under the provisions of Title 49, U.S.C. Section 47153(d), notice is being given that the FAA is considering a request from Fergus County, MT, and the City of Lewistown, MT, to waive the surplus property requirements for approximately 5.82 acres of airport property located at Lewistown Municipal Airport, in Lewistown, MT.

Approximately 3.43 acres of the subject parcel is currently part of the right of way for West Main Street. An additional 0.84 acres is proposed for right of way along West Main Street, and 1.55 acres is proposed for right of way along Airport Road. These portions of the subject parcel are currently vacant. It has been determined through study and master planning that the subject parcel will not be needed for aeronautical purposes. The proceeds of the sale will be used exclusively for developing, improving, operating, or maintaining the Lewistown Municipal Airport.

DATES: Comments must be received on or before June 22, 2015.

ADDRESSES: Send comments on this document to Mr. Steve Engebrecht at the Federal Aviation Administration, 2725 Skyway Drive, Suite 2, Helena, MT, 59601, Telephone 406-449-5271.

FOR FURTHER INFORMATION CONTACT: Documents are available for review by appointment by contacting Mr. Steve Engebrecht, Telephone 406-449-5271 or by contacting Mr. Jason Garwood, Federal Aviation Administration, 2725 Skyway Drive, Suite 2, Helena, MT 59601, Telephone 406-449-5271.

Issued in Helena, Montana, on May 15, 2015.
David S. Stelling,
Manager, Helena Airports District Office.

[FR Doc. 2015-12373 Filed 5-20-15; 8:45 am]

BILLING CODE 4910-13-P